DEPARTMENT OF HOMELAND SECURITY

Federal Emergency Management Agency

[Docket ID FEMA-2015-0001; Internal Agency Docket No. FEMA-B-1545]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: October 8, 2015.
Roy E. Wright,
Deputy Associate Administrator for Insurance and Mitigation, Department of Homeland Security, Federal Emergency Management Agency.

State and county | Location and case No. | Chief executive officer of community | Community map repository | Online location of letter of map revision | Effective date of modification | Community No.
Alabama:
Jefferson | City of Birmingham (15-04-7923X) | The Honorable William A. Bell, Sr., Mayor, City of Birmingham, 710 North 20th Street, Birmingham, AL 35203 | Planning and Engineering Office, 710 North 20th Street, Birmingham, AL 35203 | http://www.msc.fema.gov/lomc | Dec. 31, 2015 | 010116
Jefferson | City of Mountain Brook (15-04-7923X) | The Honorable Lawrence T. Oden, City of Mountain Brook, P.O. Box 130009, Mountain Brook, AL 35213 | City Hall, 3928 Montclair Road, Mountain Brook, AL 35213 | http://www.msc.fema.gov/lomc | Dec. 14, 2015 | 010128
Shelby | Unincorporated areas of Shelby County (15-04-4263P) | The Honorable Rick Shepherd, Chairman, Shelby County Board of Commissioners 200 West College Street, Columbiana, AL 35051 | Shelby County Engineer's Office, 506 Highway 70, Columbiana, AL 35051 | http://www.msc.fema.gov/lomc | Dec. 31, 2015 | 010191
Colorado:
Arapahoe | City of Centennial (15-08-0299P) | The Honorable Cathy Noon, Mayor, City of Centennial, 13133 East Arapahoe Road, Centennial, CO 80112 | Southeast Metro Stormwater Authority, 7437 South Fairplay Street, Centennial, CO 80112 | http://www.msc.fema.gov/lomc | Dec. 11, 2015 | 080315
Arapahoe | City of Centennial (15-08-0563P) | The Honorable Cathy Noon, Mayor, City of Centennial, 13133 East Arapahoe Road, Centennial, CO 80112 | Southeast Metro Stormwater Authority, 7437 South Fairplay Street, Centennial, CO 80112 | http://www.msc.fema.gov/lomc | Dec. 28, 2015 | 080315
Arapahoe | Unincorporated areas of Arapahoe County, (15-08-0299P) | The Honorable Nancy N. Sharpe, Chair, Arapahoe County Board of Commissioners, 5334 South Prince Street, Littleton, CO 80166 | Arapahoe County Public Works Department, 6924 South Lima Street, Centennial, CO 80112 | http://www.msc.fema.gov/lomc | Dec. 11, 2015 | 080011
Denver | City and County of Denver (15-08-0521P) | The Honorable Michael Hancock, Mayor, City and County of Denver, 1437 Bannock Street, Suite 350, Denver, CO 80202 | Department of Public Works, 201 West Colfax Avenue, Denver, CO 80202 | http://www.msc.fema.gov/lomc | Dec. 28, 2015 | 080046
Adams and Jefferson | City of Westminster (15-08-0180P) | The Honorable Herb Atchison, Mayor, City of Westminster, 4800 West 92nd Avenue, Westminster, CO 80031 | City Hall, 4800 West 92nd Avenue, Westminster, CO 80031 | http://www.msc.fema.gov/lomc | Nov. 27, 2015 | 080008
Broomfield | City and County of Broomfield (15-08-0180P) | The Honorable Randy Ahrens, Mayor, City and County of Broomfield, 1 DesCombes Drive, Broomfield, CO 80020 | Engineering Department, 1 DesCombes Drive, Broomfield, CO 80020 | http://www.msc.fema.gov/lomc | Nov. 27, 2015 | 085073
Jefferson | City of Lakewood (14-08-1263P) | The Honorable Bob Murphy, Mayor, City of Lakewood, Lakewood Civic Center South, 480 South Allison Parkway, Lakewood, CO 80226 | Public Works Department, 480 South Allison Parkway, Lakewood, CO 80226 | http://www.msc.fema.gov/lomc | Dec. 18, 2015 | 085075
Jefferson | Unincorporated areas of Jefferson County (14-08-1263P) | The Honorable Casey Tighe, Chairman, Jefferson County Board of Commissioners, 100 Jefferson County Parkway, Golden, CO 80419 | Jefferson County Department of Planning and Zoning, 100 Jefferson County Parkway, Golden, CO 80419 | http://www.msc.fema.gov/lomc | Dec. 18, 2015 | 080087
Jefferson | Unincorporated areas of Jefferson County (15-08-0180P) | The Honorable Casey Tighe, Chairman, Jefferson County Board of Commissioners, 100 Jefferson County Parkway, Golden, CO 80419 | Jefferson County Department of Planning and Zoning, 100 Jefferson County Parkway, Golden, CO 80419 | http://www.msc.fema.gov/lomc | Nov. 27, 2015 | 080087
Connecticut: Fairfield | City of Norwalk (15-01-1793P) | The Honorable Harry W. Rilling, Mayor, City of Norwalk, 125 East Avenue, Norwalk, CT 06856 | Planning and Zoning Department, 125 East Avenue, Norwalk, CT 06856 | http://www.msc.fema.gov/lomc | Dec. 30, 2015 | 090012
Florida:
Charlotte | Unincorporated areas of Charlotte County (15-04-4023P) | The Honorable Bill Truex, Chairman, Charlotte County Board of Commissioners, 18500 Murdock Circle, Suite 536, Port Charlotte, FL 33948 | Charlotte County Department of Community Development, 18500 Murdock Circle, Port Charlotte, FL 33948 | http://www.msc.fema.gov/lomc | Dec. 31, 2015 | 120061
Lee | Unincorporated areas of Lee County (15-04-4830P) | The Honorable Brian Hamman, Chairman, Lee County Board of Commissioners, P.O. Box 398, Fort Myers, FL 33902 | Lee County Administration Office, 1700 Monroe Street, 2nd Floor, Fort Myers, FL 33902 | http://www.msc.fema.gov/lomc | Dec. 14, 2015 | 125124
Miami-Dade | City of Sunny Isles Beach (15-04-7479X) | The Honorable George “Bud” Scholl, Mayor, City of Sunny Isles Beach, 18070 Collins Avenue, Sunny Isles Beach, FL 33160 | Building Department, 18070 Collins Ave., 3rd Floor, Sunny Isles Beach, FL 33160 | http://www.msc.fema.gov/lomc | Jan. 4, 2016 | 120688
Monroe | City of Key West (15-04-0697P) | The Honorable Craig Cates, Mayor, City of Key West, 3126 Flagler Avenue, Key West, FL 33040 | Planning Department, 605A Simonton Street, Key West, FL 33040 | http://www.msc.fema.gov/lomc | Aug. 20, 2015 | 120168
Orange | Unincorporated areas of Orange County (15-04-2752P) | The Honorable Teresa Jacobs, Mayor, Orange County, 201 South Rosalind Avenue, 5th Floor, Orlando, FL 32801 | Orange County Public Works Department, 4200 South John Young Parkway, Orlando, FL. 32839 | http://www.msc.fema.gov/lomc | Dec. 31, 2015 | 120179
Orange | Unincorporated areas of Orange County (15-04-4919P) | The Honorable Teresa Jacobs, Mayor, Orange County, 201 South Rosalind Avenue, 5th Floor, Orlando, FL 32801 | Orange County Public Works Department, 4200 South John Young Parkway, Orlando, FL. 32839 | http://www.msc.fema.gov/lomc | Dec. 24, 2015 | 120179
St. Johns | Unincorporated areas of St. Johns County (15-04-5124P) | The Honorable James K. Johns, Chairman, St. Johns County Board of Commissioners, District 1, 500 San Sebastian View, St. Augustine, FL 32084 | St. Johns County Growth Management Department, 4040 Lewis Speedway, St. Augustine, FL 32084 | http://www.msc.fema.gov/lomc | Dec. 14, 2015 | 125147
Walton | Unincorporated areas of Walton County (15-04-4766P) | The Honorable Bill Imfeld, Chairman, Walton County Board of Commissioners, 6570 U.S. Highway 90 West, DeFuniak Springs, FL 32433 | Walton County Planning and Development Services Department, 31 Coastal Centre Boulevard, Santa Rosa Beach, FL 32459 | http://www.msc.fema.gov/lomc | Dec. 26, 2015 | 120317
Georgia: Forsyth | Unincorporated areas of Forsyth County (15-04-0696P) | The Honorable R.J. (Pete) Amos, Chairman, Forsyth County Board of Commissioners, 110 East Main Street, Suite 210, Cumming, GA 30040 | Forsyth County Department of Engineering, 110 East Main Street, Suite 120, Cumming, GA 30040 | http://www.msc.fema.gov/lomc | Nov. 19, 2015 | 130312
Massachusetts: Essex | Town of Rockport (15-01-1271P) | The Honorable Erin M. Battistelli, Chair, Town of Rockport Board of Selectmen, 34 Broadway, Rockport, MA 01966 | Building Inspections Division, 26 Broadway, Rockport, MA 01966 | http://www.msc.fema.gov/lomc | Dec. 14, 2015 | 250100
Mississippi: Lafayette | City of Oxford (15-04-8440P) | The Honorable George Patterson, Mayor, City of Oxford, 107 Courthouse Square, Oxford, MS 38655 | City Hall, 107 Courthouse Square, Oxford, MS 38655 | http://www.msc.fema.gov/lomc | Jan. 4, 2016 | 280094
New Mexico: Bernalillo | Unincorporated areas of Bernalillo County (14-06-4933P) | The Honorable Maggie Hart Stebbins, Chair, Bernalillo County Board of Commissioners, 1 Civic Plaza Northwest, Albuquerque, NM 87102 | Bernalillo County Public Works Division, 2400 Broadway Boulevard Southeast, Albuquerque, NM 87102 | http://www.msc.fema.gov/lomc | Nov. 23, 2015 | 350001
North Carolina: Union | Unincorporated areas of Union County (15-04-4081P) | The Honorable Richard Helms, Chairman, Union County Board of Commissioners, 500 North Main Street, Room 921, Monroe, NC 28112 | Union County Planning Division, 500 North Main Street, Monroe, NC 28112 | http://www.msc.fema.gov/lomc | Nov. 5, 2015 | 370234
Texas:
Bexar | City of San Antonio (15-06-1484P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Dec. 3, 2015 | 480045
Collin | City of Murphy (14-06-4329P) | The Honorable Eric Barna, Mayor, City of Murphy, 206 North Murphy Road, Murphy, TX 75094 | Department of Public Works, 206 North Murphy Road, Murphy, TX 75094 | http://www.msc.fema.gov/lomc | Dec. 11, 2015 | 480137
Dallas | Town of Addison (15-06-1036P) | The Honorable Todd Meier, Mayor, Town of Addison, 5300 Belt Line Road, Dallas, TX 75254 | Town Service Center, 16801 Westgrove Drive, Dallas, TX 75001 | http://www.msc.fema.gov/lomc | Dec. 28, 2015 | 481089
Harris | Unincorporated areas of Harris County (15-06-1734P) | The Honorable Ed Emmett, Harris County Judge, 1001 Preston Street, Suite 911, Houston, TX 77002 | Harris County Permit Office, 10555 Northwest Freeway, Suite 120, Houston, TX 77092 | http://www.msc.fema.gov/lomc | Jan. 11, 2016 | 480287
Hidalgo | Unincorporated areas of Hidalgo County (15-06-2601P) | The Honorable Ramon Garcia, Hidalgo County Judge, 100 East Cano Street, 2nd Floor, Edinburg, TX 78542 | Hidalgo County Drainage District, 902 North Doolittle Road, Edinburg, TX 78542 | http://www.msc.fema.gov/lomc | Dec. 24, 2015 | 480334
Utah:
Carbon | City of Price (15-08-0486P) | The Honorable Joe Piccolo, Mayor, City of Price, 185 East Main Street, Price, UT 84501 | City Hall, 185 East Main Street, Price, UT 84501 | http://www.msc.fema.gov/lomc | Jan. 6, 2016 | 490036
Uintah | Unincorporated areas of Uintah County (15-08-0414P) | The Honorable Mike McKee, Chairman, Uintah County Board of Commissioners, 152 East 100 North, Vernal, UT 84078 | Uintah County Community Development Department, 152 East 100 North, Vernal, UT 84078 | http://www.msc.fema.gov/lomc | Dec. 16, 2015 | 490147

[FR Doc. 2015-27760 Filed 10-29-15; 8:45 am]

BILLING CODE 9110-12-P